DEPARTMENT OF AGRICULTURE

Submission for OMB Review; Comment Request

September 25, 2013.

The Department of Agriculture has submitted the following information collection requirement(s) to Office of Management and Budget (OMB) for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget, New Executive Office Building, 725-17th Street NW., Washington, DC 20502. Commenters are encouraged to submit their comments to OMB via email to: OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Utility Service

Title: Servicing of Water Programs Loans and Grants.

OMB Control Number: 0572-0137.

Summary of Collection: Authority for servicing of Water Programs Loan and Grants is contained in Section 306e of the Consolidated Farm and Rural Development Act, as amended. The information collected covers loan and grant servicing regulations, 7 CFR part 1782, which prescribes policies and responsibilities for servicing actions necessary in connection with Water and Environmental Programs (WEP) loans and grants. WEP provides loans, guaranteed loans and grants for water, sewer, storm water, and solid waste disposal facilities in rural areas and towns of up to 10,000 people.

Need and Use of the Information: The Rural Utilities Service will collect information using various forms. The collected information for the most part is financial in nature and needed by the Agency to determine if borrowers, based on their individual situations, qualify for the various servicing authorities. Servicing actions become necessary due to the development of financial or other problems and may be initiated by either a recipient which recognizes that a problem exists and wished to resolve it, or by the Agency. If a problem exists, a recipient must furnish financial information which is used to aid in resolving the problem through re-amortization, sale, transfer, debt restructuring, liquidation, or other means provided in the regulations.

Description of Respondents: Business or other for-profit; non-profit institutions; State and local governments.

Number of Respondents: 493.

Frequency of Responses: Reporting: On occasion.

Total Burden Hours: 651.

Rural Utilities Service

Title: Broadband Initiatives Program—Rural Libraries, Technical Assistance and Satellite Grants.

OMB Control Number: 0572-0145.

Summary of Collection: The American Recovery and Reinvestment Act of 2009 appropriated $2.5 billion of budget authority for establishing the Broadband Initiatives Program (BIP), 2 CFR part 176, which may extend loans, grants, and loan/grant combinations to facilitate broadband deployment in rural areas. Rural Utilities Service (RUS) announced the application window for funding Rural Libraries, Technical Assistance and Satellite grants under the Broadband Initiatives Program on May 7, 2010. Applications for the three funding opportunities were reviewed and awards were made for Satellite and Technical Assistance funding. No awards were made for the Rural Libraries funding opportunity.

Need and Use of the Information: Collection of information is being extended to retain compliance with the Recovery Act. Information collected includes the burden associated with post-application requirements as well as other associated reporting requirements. The Recovery Act directs RUS to monitor recipients' progress through periodic reports, including through a quarterly reporting requirement.

Recipients of grants will need to submit a detailed list of all projects or activities for which Recovery Act funds were expended or obligated, including (a) the name of the project or activity; (b) a description of the project or activity; (c) an evaluation of the completion status of the project or activity; (d) an estimate of the number of jobs created and the number of jobs retained by the project or activity; and (e) for infrastructure investments made by State and local governments, the purpose, total cost, and rationale of the agency for funding the infrastructure investment with Recovery Act funds. In addition, detailed information on any subcontracts or sub-grants awarded by the recipient are to include the data elements required to comply with the Federal Funding Accountability and Transparency Act of 2006.

Description of Respondents: Business or other for-profit.

Number of Respondents: 22.

Frequency of Responses: Recordkeeping; Reporting: On occasion; Quarterly.

Total Burden Hours: 312.

Charlene Parker,
Departmental Information Collection Clearance Officer.

[FR Doc. 2013-23870 Filed 9-30-13; 8:45 am]

BILLING CODE 3410-15-P